DEPARTMENT OF COMMERCE

International Trade Administration

[A-549-849]

Certain Paper Plates From Thailand: Final Affirmative Determination of Sales at Less Than Fair Value and Final Affirmative Determination of Critical Circumstances, in Part

AGENCY: Enforcement and Compliance, International Trade Administration, Department of Commerce.

SUMMARY: The U.S. Department of Commerce (Commerce) determines that imports of certain paper plates (paper plates) from Thailand are being, or are likely to be, sold in the United States at less than fair value (LTFV) for the period of investigation (POI) January 1, 2023, through December 31, 2023.

DATES: Applicable January 28, 2025.

FOR FURTHER INFORMATION CONTACT: Ted Pearson, AD/CVD Operations, Office I, Enforcement and Compliance, International Trade Administration, U.S. Department of Commerce, 1401 Constitution Avenue NW, Washington, DC 20230; telephone: (202) 482-2631.

SUPPLEMENTARY INFORMATION:

Background

On September 5, 2024, Commerce published in the Federal Register its preliminary affirmative determination in the LTFV investigation of paper plates from Thailand and invited interested parties to comment.¹ For a complete description of the events that followed the Preliminary Determination, see the Issues and Decision Memorandum.²

¹ See Certain Paper Plates from Thailand: Preliminary Affirmative Determination of Sales at Less Than Fair Value, Preliminary Affirmative Determination of Critical Circumstances, in Part, and Postponement of Final Determination and Extension of Provisional Measures, 89 FR 72370 (September 5, 2024) (Preliminary Determination), and accompanying Preliminary Decision Memorandum.

² See Memorandum, “Issues and Decision Memorandum for the Final Affirmative Determination in the Less-Than-Fair-Value Investigation of Certain Paper Plates from Thailand,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Investigation

The products covered by this investigation are paper plates from Thailand. For a complete description of the scope of this investigation, see Appendix I.

Scope Comments

We received no comments from interested parties on the scope of the investigation as it appeared in the Preliminary Determination. Therefore, we made no changes to the scope of the investigation.

Verification

Commerce verified the sales and cost information submitted by Thai Paper Co., Ltd. (Thai Paper) for use in our final determination, consistent with section 782(i) of the Tariff Act of 1930, as amended (the Act).³ We used standard verification procedures, including an examination of relevant sales and accounting records, and original source documents provided by Thai Paper.

³ See Memorandum, “Verification of the Sales Questionnaire Responses of Thai Paper Co., Ltd.,” dated September 23, 2024; see also Memoranda, “Verification of the Sales Questionnaire Responses of Go-Pak UK Ltd,” dated October 17, 2024; and, “Verification of the Cost Response of Thai Paper Company Limited,” dated December 2, 2024.

Analysis of Comments Received

All issues raised in the case and rebuttal briefs submitted by interested parties in this investigation are addressed in the Issues and Decision Memorandum. A list of the issues addressed in the Issues and Decision Memorandum is attached to this notice as Appendix II.

Final Affirmative Determination of Critical Circumstances, in Part

Commerce preliminarily determined, in accordance with section 733(e)(1) of the Act, and 19 CFR 351.206(c)(1), that critical circumstances exist with respect to imports of paper plates from Thailand for the seven companies ⁴ that were non-responsive to our quantity and value (Q&V) questionnaire. For the final determination, pursuant to section 735(a)(3)(B) of the Act and 19 CFR 351.206, we continue to find that critical circumstances exist for these seven companies. Further, we continue to find that critical circumstances do not exist with regard to Thai Paper, the companies that responded to the Q&V questionnaire (i.e., Nirvana Foods & Commerce International Co., Ltd. (Nirvana); Pandora Production Co (Pandora); and SNC Cup Co., Ltd. (SNC Cup)), and all others.

⁴ The seven non-responsive companies are: (1) ABC Digital Technology Co Ltd; (2) Beeconcious Co; (3) Dester Co, Ltd; (4) Pimlapas Printing Co., Ltd; (5) Sincerely Cargo; (6) Thai Coconut Co Ltd; and (7) Thai Union Manufacturing Co., Ltd.

Use of Adverse Facts Available (AFA)

As discussed in the Preliminary Determination, Commerce assigned dumping margins on the basis of AFA, pursuant to sections 776(a) and (b) of the Act, to the seven companies that were non-responsive to the Q&V questionnaire.⁵ For this final determination, we continue to find that the application of AFA, pursuant to sections 776(a) and (b) of the Act, is warranted with respect to the seven non-responsive companies.

⁵ See Preliminary Determination, 89 FR at 38080.

Changes Since the Preliminary Determination

We made changes since the Preliminary Determination to use Thai Paper's corrected and verified sales databases. For a discussion of these changes, see the Issues and Decision Memorandum.

All-Others Rate

Section 735(c)(5)(A) of the Act provides that the estimated weighted-average dumping margin for all other producers and exporters not individually investigated shall be equal to the weighted average of the estimated weighted-average dumping margins established for individually investigated exporters and producers, excluding rates that are zero, de minimis, or determined entirely under section 776 of the Act, i.e., facts otherwise available.

For the final determination of this investigation, Thai Paper was the only individually examined exporter/producer for which Commerce calculated an individual estimated weighted average dumping margin. Because Thai Paper's dumping margin is the only individually calculated dumping margin that is not zero, de minimis, or based entirely on facts otherwise available, the estimated weighted-average dumping margin calculated for Thai Paper is the margin assigned to all other producers and exporters and the non-selected respondents, Nirvana, Pandora, and SNC Cup.⁶

⁶ See, e.g., Steel Threaded Rod from Thailand: Preliminary Determination of Sales at Less Than Fair Value and Affirmative Preliminary Determination of Critical Circumstances, 78 FR 79670, 79671 (December 31, 2013), unchanged in Steel Threaded Rod from Thailand: Final Determination of Sales at Less Than Fair Value and Affirmative Final Determination of Critical Circumstances, 79 FR 14476, 14477 (March 14, 2014).

Final Determination

Commerce determines that the following estimated weighted-average dumping margins exist:

Exporter/producer | Weighted- average dumping margin (percent)
Thai Paper Co., Ltd | 5.57
Nirvana Foods & Commerce International Co., Ltd | 5.57
Pandora Production Co | 5.57
SNC Cup Co., Ltd | 5.57
ABC Digital Technology Co Ltd | * 73.17
Beeconcious Co | * 73.17
Dester Co, Ltd | * 73.17
Pimlapas Printing Co., Ltd | * 73.17
Sincerely Cargo | * 73.17
Thai Coconut Co Ltd | * 73.17
Thai Union Manufacturing Co., Ltd | * 73.17
All Others | 5.57
* Rate based on facts available with adverse inferences.

Disclosure

Commerce intends to disclose the calculations performed in connection with this final determination to interested parties within five days of any public announcement or, if there is no public announcement, within five days of the date of publication of this notice in the Federal Register, in accordance with 19 CFR 351.224(b).

Continuation of Suspension of Liquidation

In accordance with section 735(c)(1)(B) of the Act, Commerce will instruct U.S. Customs and Border Protection (CBP) to continue to suspend liquidation of all appropriate entries of subject merchandise, as described in Appendix II of this notice, which were entered, or withdrawn from warehouse, for consumption on or after September 5, 2024, the date of publication of the Preliminary Determination in the Federal Register.

Section 733(e)(2) of the Act provides that, given an affirmative determination of critical circumstances, any suspension of liquidation shall apply to unliquidated entries of subject merchandise entered, or withdrawn from warehouse, for consumption on or after the later of: (a) the date which is 90 days before the date on which the suspension of liquidation was first ordered; or (b) the date on which notice of initiation of the investigation was published. Commerce finds that critical circumstances exist for imports of subject merchandise produced or exported by the seven non-responsive companies. In accordance with section 733(e)(2)(A) of the Act, the suspension of liquidation shall apply to unliquidated entries of shipments of subject merchandise produced or exported by the seven non-responsive companies that were entered, or withdrawn from warehouse, for consumption on or after June 7, 2024, which is 90 days before the publication of the Preliminary Determination. These suspension of liquidation instructions will remain in effect until further notice.

Pursuant to section 735(c)(1)(B)(ii) of the Act and 19 CFR 351.210(d), where appropriate, Commerce will instruct CBP to require a cash deposit equal to the estimated weighted-average dumping margin or the estimated all-others rate, as follows: (1) the cash deposit rate for the companies listed above that exported the subject merchandise will be equal to the company-specific estimated weighted-average dumping margin determined in this final determination; (2) if the exporter is not a company identified above but the producer is, then the cash deposit rate will be equal to the company-specific estimated weighted-average dumping margin established for that producer of the subject merchandise; and (3) the cash deposit rate for all other producers and exporters will be equal to the estimated weighted-average dumping margin for all other producers and exporters.

U.S. International Trade Commission Notification (ITC)

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports or sales (or the likelihood of sales) for importation of paper plates no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This final determination and notice are issued and published in accordance with sections 735(d) and 777(i) of the Act, and 19 CFR 351.210(c).

Dated: January 21, 2025.
Abdelali Elouaradia,
Deputy Assistant Secretary for Enforcement and Compliance.

Appendix I

Scope of the Investigation

The merchandise subject to this investigation is certain paper plates. Paper plates subject to this investigation may be cut from rolls, sheets, or other pieces of paper and/or paper board. Paper plates subject to this investigation have a depth up to and including two (2.0) inches, as measured vertically from the base to the top of the lip, or the edge if the plate has no lip. Paper plates subject to this investigation may be uncolored, white, colored, or printed. Printed paper plates subject to this investigation may have any type of surface finish, and may be printed by any means with images, text and/or colors on one or both surfaces. Colored paper plates subject to this investigation may be colored by any method, including but not limited to printing, beater-dyeing, and dip-dyeing. Paper plates subject to this investigation may be produced from paper of any type (including, but not limited to, bamboo, straws, bagasse, hemp, kenaf, jute, sisal, abaca, cotton inters and reeds, or from non-plant sources, such as synthetic resin (petroleum)-based resins), may have any caliper or basis weight, may have any shape or size, may have one or more than one section, may be embossed, may have foil or other substances adhered to their surface, and/or may be uncoated or coated with any type of coating.

The paper plates subject to this investigation remain covered by the scope of this investigation whether imported alone, or in any combination of subject and non-subject merchandise. When paper plates subject to this investigation are imported in combination with non-subject merchandise, only the paper plates subject to this investigation are subject merchandise.

The paper plates subject to this investigation include paper plates matching the above description that have been finished, packaged, or otherwise processed in a third country by performing finishing, packaging, or processing that would not otherwise remove the merchandise from the scope of the investigation if performed in the country of manufacture of the paper plates. Examples of finishing, packaging, or other processing in a third country that would not otherwise remove the merchandise from the scope of the investigation if performed in the country of manufacture of the paper plates include, but are not limited to, printing, application of other surface treatments such as coatings, repackaging, embossing, and application of foil surface treatments.

Excluded from the scope of this investigation are paper plates molded or pressed directly from paper pulp (including but not limited to unfelted pulp), which are currently classifiable under subheading 4823.70.0020 of the Harmonized Tariff Schedule of the United States (HTSUS).

Also excluded from the scope of this investigation are articles that otherwise would be covered but which exhibit the following two physical characteristics: (a) depth (measured vertically from the base to the top of the lip, or edge if no lip) equal to or greater than 1.25 inches but less than two (2.0) inches, and (b) a base not exceeding five (5.0) inches in diameter if round, or not exceeding 20 square inches in area if any other shape.

Also excluded from the scope of this investigation are paper bowls, paper buckets, and paper food containers with closeable lids.

Paper plates subject to this investigation are currently classifiable under HTSUS subheading 4823.69.0040. Paper plates subject to this investigation also may be classified under HTSUS subheading 4823.61.0040. If packaged with other articles, the paper plates subject to this investigation also may be classified under HTSUS subheadings 9505.90.4000 and 9505.90.6000. While the HTSUS subheading(s) are provided for convenience and customs purposes, the written description of the subject merchandise is dispositive.

Appendix II

List of Topics Discussed in the Issues and Decision Memorandum

I. Summary

II. Background

III. Final Affirmative Determination of Critical Circumstances, in Part

IV. Changes Since the Preliminary Determination

V. Discussion of the Issues

Comment 1: Whether Commerce Should Recalculate Thai Paper's Quantity Discounts

Comment 2: Whether Commerce Should Find Multiple Levels of Trade (LOTs) in Thai Paper's Home Market

Comment 3: Whether Commerce Should Incorporate Updated Sales Databases

Comment 4: Whether Commerce Should Update the Cost Database

VI. Recommendation

[FR Doc. 2025-01809 Filed 1-27-25; 8:45 am]

BILLING CODE 3510-DS-P